DEPARTMENT OF COMMERCE

National Oceanic and Atmospheric Administration

[I.D. 030807D]

New England Fishery Management Council; Public Meeting

AGENCY: National Marine Fisheries Service (NMFS), National Oceanic and Atmospheric Administration (NOAA), Commerce.

ACTION: Notice of a public meeting.

SUMMARY: The New England Fishery Management Council's (Council) Vessel Monitoring Systems (VMS)/Enforcement Committee will meet to consider actions affecting New England fisheries in the exclusive economic zone (EEZ).

DATES: The meeting will be held on Monday, April 9, 2007, at 1 p.m.

ADDRESSES: The meeting will be held at the Hilton Mystic, 20 Coogan Boulevard, Mystic, CT 06355; telephone: (860) 572-0731.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Introduction: safety, regulation compliance, and familiarizing industry with proper use of VMS.

2. Presentation by Office for Law Enforcement: the capabilities and limitations of VMS as an enforcement tool.

3. Comments and recommendations from the public, VMS users, state agencies, and the Coast Guard. The committee has received the following requests:

a. Safe harbor notification, to suspend fishing trip, due to storms or other emergencies;

b. Produce a laminated sheet of emergency contacts;

c. Declaration in/out of a fishery while at sea, rather than in port;

d. Change polling frequency, to be based on fishery declaration;

e. Closed area transit notification, to replace gear stowage requirement;

f. Completion of the days-at-sea (DAS) web page by NMFS;

g. Inform fishermen of existing safety features on their VMS units, by vendors;.

4. Industry and law enforcement dialog on VMS usage, and how it can be improved; and

5. Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 9, 2007.
Tracey L. Thompson,
Acting Director, Office of Sustainable Fisheries, National Marine Fisheries Service.

[FR Doc. E7-4704 Filed 3-14-07; 8:45 am]

BILLING CODE 3510-22-S